DEPARTMENT OF THE INTERIOR

National Park Service

[NPS-WASO-NAGPRA-NPS0037226; PPWOCRADN0-PCU00RP14.R50000]

Notice of Inventory Completion: U.S. Department of the Interior, Navajo National Monument, Shonto, AZ

AGENCY: National Park Service, Interior.

ACTION: Notice.

SUMMARY: In accordance with the Native American Graves Protection and Repatriation Act (NAGPRA), U.S. Department of the Interior, National Park Service, Navajo National Monument (NAVA) has completed an inventory of human remains and associated funerary objects and has determined that there is no cultural affiliation between the human remains and associated funerary objects and any Indian Tribe. The human remains and associated funerary objects were removed from Coconino or Navajo Counties, AZ.

DATES: Disposition of the human remains and associated funerary objects in this notice may occur on or after February 12, 2024.

ADDRESSES: Lyn Carranza, Superintendent, Navajo National Monument, End of AZ Hwy 564 North, P.O. Box 7717, Shonto, AZ 86054-7717, telephone (928) 624-5500 Ext. 244, email lyn_carranza@nps.gov.

SUPPLEMENTARY INFORMATION: This notice is published as part of the National Park Service's administrative responsibilities under NAGPRA. The determinations in this notice are the sole responsibility of the superintendent, NAVA. Additional information on the determinations in this notice, including the results of consultation, can be found in the inventory or related records held by NAVA.

Description

Human remains representing, at minimum, nine individuals were removed from Coconino or Navajo County, AZ. The human remains were found in, or accessioned into, NAVA collections between 1954 and 1999 with no clear locational information. NAVA reasonably believes that they were either removed from within the monument or from the vicinity of the monument. The 37 associated funerary objects are one pendant, 30 beads, one worked stone, and five sherds.

Tribal Land

The human remains and associated funerary objects in this notice were removed from known geographic locations. At the time of removal, these locations were the tribal land of one or more Indian Tribes.

Determinations

Pursuant to NAGPRA and its implementing regulations, and after consultation with the appropriate Indian Tribes, NAVA has determined that:

• The human remains described in this notice represent the physical remains of nine individuals of Native American ancestry.

• The 37 objects described in this notice are reasonably believed to have been placed with or near individual human remains at the time of death or later as part of the death rite or ceremony. The National Park Service intends to convey the associated funerary objects to the Tribes pursuant to 54 U.S.C. 102503(g) through (i) and 54 U.S.C. 102504.

• No relationship of shared group identity can be reasonably traced between the human remains and associated funerary objects and any Indian Tribe.

• The human remains and associated funerary objects described in this notice were removed from the tribal land of the Navajo Nation, Arizona, New Mexico, & Utah.

Requests for Disposition

Written requests for disposition of the human remains and associated funerary objects in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is a tribal land Indian Tribe.

Disposition of the human remains and associated funerary objects described in this notice to a requestor may occur on or after February 12, 2024. If competing requests for disposition are received, NAVA must determine the most appropriate requestor prior to disposition. Requests for joint disposition of the human remains and associated funerary objects are considered a single request and not competing requests. NAVA is responsible for sending a copy of this notice to the Indian Tribes identified in this notice.

Authority: Native American Graves Protection and Repatriation Act, 25 U.S.C. 3003, and the implementing regulations, 43 CFR 10.9 and 10.11.

Dated: January 5, 2024.
Melanie O'Brien,
Manager, National NAGPRA Program.

[FR Doc. 2024-00523 Filed 1-11-24; 8:45 am]

BILLING CODE 4312-52-P